DEPARTMENT OF HEALTH AND HUMAN SERVICES

Centers for Disease Control and Prevention

[60Day-09-08BG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of Coal Mine Safety Interventions—NEW—National Institute for Occupational Safety and Health (NIOSH), Centers for Disease Control and Prevention (CDC).

Background and Brief Description

Since its establishment in 1970 by the Occupational Safety and Health Act, the National Institute for Occupational Safety and Health (NIOSH) has been at the forefront of research and innovation on methods to help eliminate workplace injuries, illnesses and exposures. At Mine Safety and Health Research laboratories in Pittsburgh, Pennsylvania and Spokane, Washington, NIOSH employs engineers and scientists with experience and expertise in mine safety and health issues. These laboratories and their researchers have gained an international reputation for innovative solutions to many mining safety and health problems.

Although the NIOSH Mining Program widely disseminates and publicizes research results, recommendations, techniques and products that emerge from the work of these laboratories, the agency has limited knowledge about the extent to which their innovations in mine safety and health have been implemented by individual mine operators. This is particularly true of methods and practices that are not mandated by formal regulations. The overarching goal of the proposed survey of NIOSH Recommended Safety and Health Practices for Coal Mines is to gather data from working coal mines on the adoption and implementation of NIOSH practices to mitigate safety and occupational hazards (e.g., explosions, falls of ground). The information from this survey will be used by NIOSH to evaluate the implementation of safety and health interventions (including best practices and barriers to implementation) in areas such as respirable coal dust control, explosion prevention, roof support, and emergency response planning and training. Survey results will provide NIOSH with knowledge about which recommended practices, tools and methods have been most widely embraced by the industry, which have not been adopted, and why. The survey results will provide needed insight from the perspective of mine operators on the practical barriers that may prevent wider adoption of NIOSH recommendations and practices designed to safeguard mine workers.

In the spring of 2007, NIOSH conducted a pretest of the survey questionnaire with nine underground coal mine operators. The pretest instrument contained 81 questions, including five questions which measured the respondents' impressions of the clarity, burden level and relevance of the survey. The pretest served several important functions, including gaining feedback on the flow of items and their relevance to the respondents' experience, assessing the effectiveness of the questionnaire instructions, and obtaining recommendations for improving the questions. Data captured in the pretest were used to identify areas for questionnaire improvement and recommendations for maximizing the performance of the full survey.

The proposed survey will be based upon a probability sample of 300 of the approximately 665 underground coal mines in the United States. A stratified random sample of mines will be drawn to ensure representativeness on important dimensions such as mine size and region of the country. Sampling a large proportion of the underground coal mines will ensure low rates of sampling error and increase confidence in the resulting survey estimates. Over-sampling some types of mines, such as those operating longwall sections, will be necessary to ensure enough cases are available to conduct meaningful analysis of these mine types.

Allowing mine operators to complete the survey using the method they find convenient is expected to enhance the overall response rate. Therefore, both a Web-based and a print version of the questionnaire will be provided to sampled respondents. Using these multiple methods of administration, NIOSH expects to achieve an 80% rate of response to the survey. In order to further reduce the overall burden on respondents, certain types of supplementary information (e.g., the mine's dates of operation, annual coal production) will be gathered from publicly-available data collected by the Mine Safety and Health Administration (MSHA).

Once the study is completed, NIOSH will provide a copy of the final report to each sampled mining operation, and use the survey data to improve the adoption of important safety and health practices throughout the coal mine industry. There is no cost to respondents other than their time.

Estimated Annualized Burden Hours
Type of response | Number of respondents | Number responses per respondent | Average burden per response (in hours) | Total burden hours
Initial telephone contact with coal mines | 300 | 1 | 5/60 | 25
Respondents completing paper survey | 144 | 1 | 30/60 | 72
Respondents completing Web survey | 96 | 1 | 25/60 | 40
Total |  |  |  | 137

Dated: September 30, 2009.
Maryam I. Daneshvar,
Acting Reports Clearance Officer, Centers for Disease Control and Prevention.

[FR Doc. E9-24156 Filed 10-6-09; 8:45 am]

BILLING CODE 4163-18-P